DEPARTMENT OF JUSTICE

Notice of Lodging of Consent Decree Pursuant to the Comprehensive Environmental Response, Compensation, and Liability Act

In accordance with Departmental policy, notice is hereby given that on November 14, 2001, a proposed consent decree in the case captioned Dow Chemical Co., et al. v. Acme Wrecking Co., Inc., et al., Civil Action Nos. C-1-97-0307, C-1-97-0308, and C-1-01-439 (S.D. Ohio), was lodged with the United States District Court for the Southern District of Ohio. The proposed de minimis consent decree relates to the Skinner Landfill Superfund Site (“Site”) in West Chester, Ohio. The proposed consent decree would resolve civil claims of the United States for response actions and for the recovery of response costs at the Site under Sections 106 and 107(a) of the Comprehensive Environmental Response, Compensation, and Liability Act, as amended, 42 U.S.C. 9606, 9607(a), against Sealy, Inc., and Sealy Mattress Co. (collectively “Sealy”), Acme Wrecking Co., Inc. (“Acme Wrecking”), and the David Hirschberg Co. (“Hirschberg”). Under the proposed consent decree: (1) Sealy would pay the United States $23,695, and would pay the parties that are performing the work at the Site (the “Skinner Landfill Site Group”) $94,780; (2) Acme Wrecking would pay the United States $14,000 and would pay the Skinner Landfill Site Group $56,000; and (3) Hirschberg would pay the United States $3,800, and would pay the Skinner Landfill Site Group $15,200.

The Department of Justice will receive, for a period of thirty (30) days from the date of this publication, comments relating to the proposed consent decree. Comments should be addressed to the Assistant Attorney General of the Environment and Natural Resource Division, Department of Justice, Washington, D.C. 20530, and should refer to Dow Chemical Co. et al. v. Acme Wrecking Co., Inc. et al., Civil Action Nos. C-1-97-0308, and C-1-01-439 (S.D. Ohio), and DOJ Reference No. 90-11-3-1620/2.

The proposed consent decree may be examined at: (1) the Office of the United States Attorney for the Southern District of Ohio, 220 U.S.P.O. & Courthouse, 100 E. 5th St., Cincinnati, OH 45202; and (2) the United States Environment Protection Agency (Region 5), 77 West Jackson Boulevard, Chicago, Illinois 60604-3590. Copies of the proposed consent decrees may be obtained by mail from the Department of Justice Consent Decree Library, P.O. Box 7611, Washington, D.C. 20044. In requesting copies, please refer to the above-referenced case and DOJ Reference Number and enclose a check for $10.50 (42 pages at 25 cents per page reproduction cost) made payable to the Consent Decree Library.

William D. Brighton,
Assistant Section Chief, Environment Enforcement Section, Environment and Natural Resources Division.

[FR Doc. 01-30156 Filed 12-4-01; 8:45 am]

BILLING CODE 4410-15-M